FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012056-001.

Agreement Name: WWOcean/EUKOR Joint Operating Agreement.

Parties: Wallenius Wilhelmsen Ocean AS and EUKOR Car Carriers, Inc.

Filing Party: Wayne Rohde; Cozen O'Connor.

Synopsis: The amendment changes name of the WW party to the Agreement; updates addresses of the parties; updates the description of corporate relationship between parties; and revises officials of agreement and delegations of authority.

Proposed Effective Date: 9/5/2019.

Location: https://www2.fmc.gov/FMC.Agreements.Web/Public/AgreementHistory/2021.

Dated: September 9, 2019.
Rachel Dickon,
Secretary.

[FR Doc. 2019-19749 Filed 9-11-19; 8:45 am]

BILLING CODE 6731-AA-P